DEPARTMENT OF STATE

[Public Notice: 12522]

Notice of Department of State Sanctions Actions

ACTION: Notice.

SUMMARY: The U.S. Department of State's Office of Economic Sanctions Policy and Implementation (SPI) is publishing the name of one person who has been removed from the List of Specially Designated Nationals and Blocked Persons (SDN List) maintained by the Office of Foreign Assets Control (OFAC) and is consequently no longer subject to the prohibitions imposed pursuant to Executive Order of April 15, 2021, “Blocking Property With Respect To Specified Harmful Foreign Activities of the Government of the Russian Federation.”

DATES: The action described in this notice was effective on August 28, 2024.

FOR FURTHER INFORMATION CONTACT: Aaron P. Forsberg, Director, Office of Economic Sanctions Policy and Implementation, Bureau of Economic and Business Affairs, Department of State, Washington, DC 20520, tel.: (202) 647-7677, email: ForsbergAP@state.gov.

SUPPLEMENTARY INFORMATION:

Electronic Availability

The SDN List and additional information concerning OFAC sanctions programs are available from OFAC's website at http://www.treasury.gov/ofac.

Notice of Department of State Action

On August 28, 2024, pursuant to a decision by the Department of State, OFAC removed from the SDN List the person listed below, who was subject to prohibitions imposed pursuant to E.O. 14024.

Entity

1. BRODSKIY, Ilya Borisovich (Cyrillic: БРОДСКИЙ, Илья Борисович) (a.k.a. BRODSKI, Ilya Borisovich), Russia; DOB 01 Jul 1972; POB Moscow, Russia; nationality Russia; alt. nationality Cyprus; Gender Male; Passport K00227238 (Cyprus) (individual) [RUSSIA-EO14024] (Linked To: SOVCOMBANK OPEN JOINT STOCK COMPANY).

Roland F. de Marcellus,
Principal Deputy Assistant Secretary, Acting, Bureau of Economic and Business Affairs, Department of State.

[FR Doc. 2024-19932 Filed 9-4-24; 8:45 am]

BILLING CODE 4710-AE-P